DEPARTMENT OF THE TREASURY

Internal Revenue Service

Open Meeting of Citizen Advocacy Panel, Midwest District

AGENCY: Internal Revenue Service (IRS), Treasury.

ACTION: Notice.

SUMMARY: An open meeting of the Midwest Citizen Advocacy Panel will be held in Milwaukee, Wisconsin.

DATES: The meeting will be held Thursday, April 27, 2000, and Friday, April 28, 2000.

FOR FURTHER INFORMATION CONTACT: Sandra McQuin at 1-888-912-1227, or 414-297-1604.

SUPPLEMENTARY INFORMATION: Notice is hereby given pursuant to Section 10(a)(2) of the Federal Advisory Committee Act, 5 U.S.C. App. (1988) that a working meeting of the Citizen Advocacy Panel (CAP) will be held Thursday, April 27, 2000, from 9:00 a.m. to 5:00 p.m. and Friday, April 28, 2000, from 9:00 a.m. to Noon at Reuss Federal Building, Meeting Room 290B, 310 W. Wisconsin Avenue, Milwaukee, WI. The Citizen Advocacy Panel is soliciting public comment, ideas, and suggestions on improving customer service at the Internal Revenue Service. Written comments can be submitted to the panel by faxing to (414) 297-1623, or by mail to Citizen Advocacy Panel, Mail Stop 1006 MIL, 310 West Wisconsin Avenue, Milwaukee, WI 53203-2221.

The Agenda will include the following: Various IRS issue updates and reports by the CAP sub-groups, presentation of taxpayer issues by individual members, CAP office report, and discussion of issues.

Note: Last minute changes to the agenda are possible and could prevent effective advance notice.

Dated: March 24, 2000.
M. Cathy VanHorn,
CAP Project Manager.

[FR Doc. 00-8582 Filed 4-6-00; 8:45 am]

BILLING CODE 4830-01-U